NATIONAL AERONAUTICS AND SPACE ADMINISTRATION

[Notice (21-021)]

Notice of Intent To Grant an Exclusive License

AGENCY: National Aeronautics and Space Administration.

ACTION: Notice of intent to grant partially exclusive patent license.

SUMMARY: NASA hereby gives notice of its intent to grant a partially exclusive patent license in the United States to practice the inventions described and claimed in the U.S. Patents and U.S. Patent Applications listed in SUPPLEMENTARY INFORMATION below.

DATES: The prospective partially exclusive license may be granted unless NASA receives written objections including evidence and argument, no later than April 26, 2021 that establish that the grant of the license would not be consistent with the requirements regarding the licensing of federally owned inventions as set forth in the Bayh-Dole Act and implementing regulations. Competing applications completed and received by NASA no later than April 26, 2021 will also be treated as objections to the grant of the contemplated partially exclusive license. Objections submitted in response to this notice will not be made available to the public for inspection and, to the extent permitted by law, will not be released under the Freedom of Information Act.

ADDRESSES: Objections relating to the prospective license may be submitted to Patent Counsel, Office of the General Counsel, NASA Langley Research Center. Phone (757) 864-3221. Email: robin.w.edwards@nasa.gov.

SUPPLEMENTARY INFORMATION: NASA intends to grant a partially exclusive patent license in the United States to practice the inventions described and claimed in the following U.S. Patents and U.S. Patent Applications:

• U.S. Patent No. 10,269,463 B2 for an invention titled “Nuclear Thermionic Avalanche Cells with Thermoelectric (NTAC-TE) Generator in Tandem Mode,” NASA Case Number LAR-17981-1;

• U.S. Patent No. 10,886,452 B2 for an invention titled “Selective and Direct Deposition Technique for Streamlined CMOS Processing,” NASA Case Number LAR-18925-1;

• U.S. Patent Application No. 15/995,467 for an invention titled “Thermionic Power Cell,” NASA Case Number LAR-18860-1;

• U.S. Patent Application No. 15/479,679 for an invention titled “Metallic Junction Thermoelectric Generator,” NASA Case Number LAR-18866-1;

• U.S. Patent Application No. 17/140,548 for an invention titled “Selective and Direct Deposition Technique for Streamlined CMOS Processing,” NASA Case Number LAR-18925-2;

• U.S. Patent Application No. 16/354,606 for an invention titled “Portable Miniaturized Thermionic Power Cell with Multiple Regenerative Layers,” NASA Case Number LAR-18926-1;

• U.S. Patent Application No. 16/354,701 for an invention titled “High Performance Electric Generators Boosted by Nuclear Electron Avalanche (NEA),” NASA Case Number LAR-19112-1;

• U.S. Patent Application No. 16/352,409 for an invention titled “Co-60 Breeding Reactor Tandem with Thermionic Avalanche Cell,” NASA Case Number LAR-18762-1;

• U.S. Patent Application No. 16/426,345 for an invention titled “Multi-Layered Radio-Isotope for Enhanced Photoelectron Avalanche Process,” NASA Case Number LAR-19420-1; and

• U.S. Provisional Patent Application No. 63/153,632 for an invention titled “NTAC Augmented Nuclear Electric Propulsion and/or Nuclear Thermal Propulsion,” NASA Case Number LAR-19976-1 to Tamer Space, LLC, having its principal place of business in Poquoson, VA. The fields of use may be limited to civilian use power generating applications below 400,000 feet above Earth's mean sea level, and the field of stationary (where stationary means permanently fixed and not capable of being moved) power/energy sources for the United States Department of Defense (specifically the Army, Navy, Air Force, Marine Corps, and Coast Guard, as well as any Space Corps) applications below 400,000 feet above Earth's mean sea level. NASA has not yet made a final determination to grant the requested license and may deny the requested license even if no objections are submitted within the comment period.

This notice of intent to grant a partially exclusive patent license is issued in accordance with 35 U.S.C. 209(e) and 37 CFR 404.7(a)(1)(i). The patent rights in these inventions have been assigned to the United States of America as represented by the Administrator of the National Aeronautics and Space Administration. The prospective partially exclusive license will comply with the requirements of 35 U.S.C. 209 and 37 CFR 404.7.

Information about other NASA inventions available for licensing can be found online at http://technology.nasa.gov.

Helen M. Galus,
Agency Counsel for Intellectual Property.

[FR Doc. 2021-07026 Filed 4-8-21; 8:45 am]

BILLING CODE 7510-13-P